DEPARTMENT OF ENERGY

Federal Energy Regulatory Commission

Combined Notice of Filings #1

Take notice that the Commission received the following electric rate filings:

Docket Numbers: ER14-1210-001.

Applicants: Midcontinent Independent System Operator, Inc.

Description: 2014-08-06_SA 6502 Illinois Power-Edwards SSR Compliance Filing to be effective 1/1/2013.

Filed Date: 8/6/14.

Accession Number: 20140806-5111.

Comments Due: 5 p.m. ET 8/27/14.

Docket Numbers: ER14-1225-002.

Applicants: Southwest Power Pool, Inc.

Description: Lea County Stated Rate Compliance Filing to be effective 4/1/2014.

Filed Date: 8/6/14.

Accession Number: 20140806-5122.

Comments Due: 5 p.m. ET 8/27/14.

Docket Numbers: ER14-2602-000.

Applicants: PacifiCorp.

Description: BPA AC Intertie Agreement 12th Revised to be effective 10/1/2014.

Filed Date: 8/5/14.

Accession Number: 20140805-5164.

Comments Due: 5 p.m. ET 8/26/14.

Docket Numbers: ER14-2603-000.

Applicants: ISO New England Inc., New England Independent Transmission Company, LLC.

Description: Notice of Termination of the NEITC Operating Agreement of New England Independent Transmission Company, LLC, et. al.

Filed Date: 8/6/14.

Accession Number: 20140806-5069.

Comments Due: 5 p.m. ET 8/27/14.

Docket Numbers: ER14-2604-000.

Applicants: Deseret Generation & Transmission Co-operative, Inc.

Description: OATT Order No. 792 Compliance Filing to be effective 8/3/2014.

Filed Date: 8/6/14.

Accession Number: 20140806-5100.

Comments Due: 5 p.m. ET 8/27/14.

Docket Numbers: ER14-2605-000.

Applicants: Midcontinent Independent System Operator, Inc.

Description: 2014-08-06_Ameren Edwards Part 1 Compliance Filing to be effective 7/22/2014.

Filed Date: 8/6/14.

Accession Number: 20140806-5108.

Comments Due: 5 p.m. ET 8/27/14.

Docket Numbers: ER14-2606-000.

Applicants: Macho Springs Power I, LLC.

Description: Order No. 784 Compliance Filing and Revisions to Market-Based Rate Tariff to be effective 8/7/2014.

Filed Date: 8/6/14.

Accession Number: 20140806-5112.

Comments Due: 5 p.m. ET 8/27/14.

Docket Numbers: ER14-2607-000.

Applicants: California Independent System Operator Corporation.

Description: 2014-08-06_EIM_EntitityAgreement_PacifiCorp to be effective 9/30/2014.

Filed Date: 8/6/14.

Accession Number: 20140806-5125.

Comments Due: 5 p.m. ET 8/27/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 6, 2014.
Nathaniel J. Davis, Sr.,
Deputy Secretary.

[FR Doc. 2014-19259 Filed 8-13-14; 8:45 am]

BILLING CODE 6717-01-P